DEPARTMENT OF THE TREASURY

Internal Revenue Service

26 CFR Part 31

[TD 9524]

RIN 1545-BG45

Extension of Withholding to Certain Payments Made by Government Entities; Correction

AGENCY: Internal Revenue Service (IRS), Treasury.

ACTION: Correction to final regulations.

SUMMARY: This document describes corrections to final regulations (TD 9524) that were published in the Federal Register on Monday, May 9, 2011 (76 FR 26583) relating to withholding by government entities. These regulations reflect changes in the law made by the Tax Increase Prevention and Reconciliation act of 2005 that require Federal, State, and local government entities to withhold income tax when making payments to persons providing property or services. These regulations affect Federal, State, and local government entities that will be required to withhold and report tax from payments to persons providing property or services and also affect the person receiving payments for property or services from the government entities.

DATES: This correction is effective on June 7, 2011, and is applicable on May 9, 2011.

FOR FURTHER INFORMATION CONTACT: A. G. Kelley, (202) 622-6040 (not a toll-free number).

SUPPLEMENTARY INFORMATION:

Background

The final regulations that are the subject of this correction are under sections 3402(t), 3406(g), 6011(a), 6051, 6071(a), and 6302 of the Internal Revenue Code.

Need for Correction

As published, final regulations (TD 9524) contain errors that may prove to be misleading and are in need of clarification.

Correction of Publication

Accordingly, the publication of the final regulations (TD 9524) which were the subject of FR Doc. 2011-10760 is corrected as follows:

1. On page 26584, column 1, in the preamble, under the paragraph heading “Summary of Comments and Explanation of Provisions”, the second paragraph of the column, line 1, the language “As discussed in section IX of the” is corrected to read “As discussed in section VIII of the”.

2. On page 26854, column 1, in the preamble, under the paragraph heading “Summary of Comments and Explanation of Provisions”, the second paragraph of the column, line 13, the language “materially modified (but see section IX” is corrected to read “materially modified (but see section VIII”.

3. On page 26586, column 2, in the preamble, under the paragraph heading “D. Advance and Interim Payments”, first paragraph, last line, the language “IV.E.1 of this preamble).” is corrected to read “III.E.1 of this preamble).”.

4. On page 26587, column 2, in the preamble, the language of the paragraph heading “IV. Payments Excepted From the Section 3402(t) Withholding Requirements” is corrected to read “III. Payments Excepted From the Section 3402(t) Withholding Requirements”.

5. On page 26591, column 1, in the preamble, the language of the paragraph heading “V. Application of Section 3402(t) to Passthrough Entities” is corrected to read “IV. Application of Section 3402(t) to Passthrough Entities”.

6. On page 26591, column 2, in the preamble, the language of the paragraph heading “VI. Deposits and Reporting of Amounts Withheld Under Section 3402(t)” is corrected to read “V. Deposits and Reporting of Amounts Withheld Under Section 3402(t)”.

7. On page 26591, column 3, in the preamble, the language of the paragraph heading “VII. Crediting of Amounts Withheld” is corrected to read “VI. Crediting of Amounts Withheld”.

8. On page 26592, column 2, in the preamble, the language of the paragraph heading “VIII. Correction of Errors and Liability of Government Entity” is corrected to read “VII. Correction of Errors and Liability of Government Entity”.

9. On page 26593, column 2, in the preamble, the language of the paragraph heading “IX. Extension of Applicability Date and Transition Relief for Existing Contracts” is corrected to read “VIII. Extension of Applicability Date and Transition Relief for Existing Contracts”.

10. On page 26594, column 1, in the preamble, the language of the paragraph heading “X. Transition Rule for Interest and Penalties on Underpayments” is corrected to read ” IX. Transition Rule for Interest and Penalties on Underpayments”.

LaNita Van Dyke,
Chief, Publications and Regulations Branch, Legal Processing Division, Associate Chief Counsel (Procedure and Administration).

[FR Doc. 2011-13932 Filed 6-6-11; 8:45 am]

BILLING CODE 4830-01-P